DEPARTMENT OF HEALTH AND HUMAN SERVICES

National Committee on Vital and Health Statistics: Meeting Population Health Subcommittee

Pursuant to the Federal Advisory Committee Act, the Department of Health and Human Services (HHS) announces the following advisory committee meeting.

Name: National Committee on Vital and Health Statistics (NCVHS), Subcommittee on Population Health.

Time And Date:

October 27, 2014 8:00 a.m.—5:30 p.m. EST

October 28, 2014 8:30 a.m.—12:30 p.m. EST

Place: U.S. Department of Health and Human Services, Hubert H. Humphrey Building, 200 Independence Avenue SW., Room 705A, Washington, DC 20201, (202) 690-7100.

Status: Open.

Purpose: The purpose of this roundtable is to consider issues associated with data access and use for community health assessment and improvement. The Roundtable will bring together community leaders, health data `connectors' (intermediary organizations), and health data suppliers to identify major lessons, needs and gaps in local data access and use and explore how HHS can better support local data efforts. The intention of the gathering is to: (1) Identify the strengths and needs of communities, (2) enhance the role of data connectors, and (3) improve the dissemination strategies of data suppliers. The ultimate goal is to help enable communities systematically and effectively use data and information to enhance local well-being.

Contact Person For More Information: Debbie M. Jackson, Acting Executive Secretary, NCVHS, National Center for Health Statistics, Centers for Disease Control and Prevention, 3311 Toledo Road, Room 2339, Hyattsville, Maryland 20782, telephone (301) 458-4614. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: September 12, 2014.
James Scanlon,
Deputy Assistant Secretary for Planning and Evaluation, (Science and Data Policy), Office of the Assistant Secretary for Planning and Evaluation.

[FR Doc. 2014-22424 Filed 9-19-14; 8:45 am]

BILLING CODE 4151-05-P